DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
City of Jackson, Missouri
FEMA Docket No.: B-7759
Missouri | City of Jackson | Goose Creek | Confluence with Hubble Creek | +401
|  |  | Approximately 2.44 miles upstream of East Main Street | +476
Missouri | City of Jackson | Hubble Creek | Confluence with Goose Creek | +400
|  |  | Missouri State Route Y | +474
Missouri | City of Jackson | Neal Creek | Confluence with Goose Creek | +428
|  |  | Approximately 0.60 mile upstream of Woodland Drive | +472
Missouri | City of Jackson | Ramsey Branch | Approximately 1.51 miles upstream of Hoppers Road | +474
|  |  | Approximately 1.62 miles upstream of Hoppers Road | +477
Missouri | City of Jackson | Rocky Branch | 0.21 miles upstream of confluence with Hubble Creek at South Farmington Road | +406
|  |  | Approximately 130 feet upstream of North Farmington Road | +470
Missouri | City of Jackson | Rocky Branch West Fork | Confluence with Rocky Branch | +410
|  |  | Approximately 260 feet upstream of Old Toll Road | +446
Missouri | City of Jackson | West Fork of Williams Creek | Confluence with Williams Creek | +419
|  |  | Approximately 230 feet upstream of Old Cape Road | +437
Missouri | City of Jackson | Williams Creek | Approximately 0.39 miles downstream of Highway 61 | +414
|  |  | Approximately 0.19 miles upstream of Bainbridge Road | +441
* National Geodetic Vertical Datum.
+ North American Vertical Datum.
# Depth in feet above ground.
ADDRESSES
City of Jackson
Maps are available for inspection at 101 Court Street, Jackson, MO 63755.

Flooding source(s) | Location of referenced elevation | * Elevation in feet (NGVD) + Elevation in feet (NAVD) # Depth in feet above ground Modified | Communities affected
Graham County, North Carolina and Incorporated Areas
Docket Nos.: FEMA-B-7734 and FEMA-D-7818
Anderson Creek | At the confluence with Tulula Creek | +2,255 | Graham County (Unincorporated Areas).
| Approximately 0.4 mile upstream of State Road 1103 | +2,643
Atoah Creek | At the confluence with Long Creek | +2,045 | Graham County (Unincorporated Areas).
| Approximately 230 feet upstream of Lewis Nelson Road | +2,329
Bear Creek (near Dentons) | At the confluence with Little Snowbird Creek | +2,510 | Graham County (Unincorporated Areas).
| Approximately 1.5 miles upstream of the confluence with Little Snowbird Creek | +3,093
Beech Creek | At the confluence with Sweetwater Creek | +2,196 | Graham County (Unincorporated Areas).
| Approximately 1,920 feet upstream of the confluence of South Fork Beech Creek | +2,363
Bert Creek | At the confluence with Tulula Creek | +2,185 | Graham County (Unincorporated Areas).
| Approximately 1,100 feet upstream of Berts Creek Road | +2,344
Buffalo Creek | At the confluence with Cheoah River | +1,942 | Graham County (Unincorporated Areas).
| At the confluence of West Buffalo Creek | +1,942
Cheoah River | At the confluence with Little Tennessee River | +1,088 | Graham County (Unincorporated Areas), Town of Robbinsville.
| At the confluence of Tulula Creek and Sweetwater Creek | +1,982
Cochran Creek | At the confluence with Cheoah River | +1,693 | Graham County (Unincorporated Areas).
| Approximately 0.4 mile upstream of Cochrans Creek Road (State Road 1250) | +1,930
Cooloska Branch | At the confluence with Snowbird Creek | +1,942 | Graham County (Unincorporated Areas).
| Approximately 900 feet upstream of Massey Branch Road (State Road 1116) | +1,965
Dry Creek | At the confluence with Stecoah Creek | +2,050 | Graham County (Unincorporated Areas).
| Approximately 1,630 feet upstream of Collins Cove | +2,629
East Buffalo Creek | At the confluence with Cheoah River | +1,942 | Graham County (Unincorporated Areas), Town of Lake Santeetlah.
| Approximately 0.4 mile upstream of Buffalo Lane | +2,066
Eller Mill Creek | At the confluence with Little Snowbird Creek | +2,317 | Graham County (Unincorporated Areas).
| Approximately 0.5 mile upstream of the confluence with Little Snowbird Creek | +2,540
Fontana Lake | Entire shoreline within Graham County | +1,710 | Graham County (Unincorporated Areas).
Franks Creek | At the confluence with Tulula Creek | +2,126 | Graham County (Unincorporated Areas).
| Approximately 1,000 feet upstream of Franks Creek Road (State Road 1207) | +2,315
Gladdens Creek | At the confluence with Cheoah River | +1,722 | Graham County (Unincorporated Areas).
| Approximately 0.5 mile upstream of Gladdens Creek Road (State Road 1135) | +1,917
Hares Creek | At the confluence with Tulula Creek | +2,278 | Graham County (Unincorporated Areas).
| Approximately 700 feet downstream of Carpenter Drive | +2,602
Hooper Mill Creek | At the confluence with West Buffalo Creek | +2,114 | Graham County (Unincorporated Areas).
| Approximately 20 feet downstream of the confluence of Seven Springs Branch | +2,672
Hyde Mill Creek | At the confluence with Tulula Creek | +2,084 | Graham County (Unincorporated Areas).
| Approximately 1,870 feet upstream of Floyd Carpenter Road (State Road 1132) | +2,433
Juanita Branch | At the confluence with Little Snowbird Creek | +2,985 | Graham County (Unincorporated Areas).
| Approximately 0.7 mile upstream of the confluence with Little Snowbird Creek | +3,255
Juts Creek | At the confluence with Tulula Creek | +2,425 | Graham County (Unincorporated Areas).
| Approximately 0.5 mile upstream of U.S. Highway 129 | +2,580
Little Buffalo Creek | At the confluence with West Buffalo Creek and Squally Creek | +2,361 | Graham County (Unincorporated Areas).
| Approximately 1.5 miles upstream of the confluence with West Buffalo Creek and Squally Creek | +2,928
Little Snowbird Creek | At the confluence with Snowbird Creek | +2,108 | Graham County (Unincorporated Areas).
| Approximately 800 feet upstream of the confluence of Hornet Nest Branch | +3,288
Little Tennessee River | Approximately 1.7 miles downstream of the confluence of Cheoah River | +1,088 | Graham County (Unincorporated Areas).
| At the downstream side of the Fontana Dam | +1,277
Long Creek | At the confluence with Cheoah River | +1,968 | Graham County (Unincorporated Areas), Town of Robbinsville.
| Approximately 1.4 miles upstream of Springwood Lake Road | +2,393
Mountain Creek | At the confluence with Cheoah River | +1,945 | Graham County (Unincorporated Areas).
| Approximately 50 feet downstream of Mountain Creek Road (State Road 1214) | +2,397
Mouse Branch | At the confluence with Panther Creek | +1,710 | Graham County (Unincorporated Areas).
| Approximately 2.0 miles upstream of the confluence with Panther Creek | +1,713
North Fork Tuskeegee Creek | At the confluence with Tuskeegee Creek | +1,953 | Graham County (Unincorporated Areas).
| Approximately 1,420 feet upstream of Upper Tuskeegee NP (State Road 1242) | +2,031
Ollie Branch | At the confluence with East Buffalo Creek | +1,943 | Graham County (Unincorporated Areas).
| Approximately 180 feet upstream of Ollies Creek Road (State Road 1253) | +2,246
Panther Creek | At the confluence with Little Tennessee River | +1,710 | Graham County (Unincorporated Areas).
| Approximately 0.4 mile upstream of Shell Stand Road (State Road 1268) | +1,886
Santeetlah Creek | At the confluence with Cheoah River | +1,942 | Graham County (Unincorporated Areas).
| Approximately 1.8 miles upstream of the confluence with Cheoah River | +1,942
Sawyer Creek | At the confluence with Stecoah Creek | +1,710 | Graham County (Unincorporated Areas).
| Approximately 0.4 mile upstream of Upper Sawyers Creek NP (State Road 1240) | +2,284
Snowbird Creek | At the confluence with Cheoah River | +1,942 | Graham County (Unincorporated Areas).
| Approximately 0.6 mile downstream of the confluence of Chestnut Flat Branch | +2,207
South Fork Beech Creek | At the confluence with Beech Creek | +2,283 | Graham County (Unincorporated Areas).
| Approximately 1.6 miles upstream of Beech Creek Road (State Road 1223) | +2,845
Squally Creek | At the confluence with West Buffalo Creek and Little Buffalo Creek | +2,361 | Graham County (Unincorporated Areas).
| Approximately 0.9 mile upstream of the confluence of South Fork Squally Creek | +3,922
Stecoah Creek | At the confluence with Little Tennessee River | +1,710 | Graham County (Unincorporated Areas).
| Approximately 0.7 mile upstream of the confluence of Cody Branch | +2,328
Sweetwater Creek | At the confluence with Cheoah River and Tulula Creek | +1,982 | Graham County (Unincorporated Areas), Town of Robbinsville.
| Approximately 80 feet downstream of NC Highway 143 | +2,356
Town Branch | At the confluence with Panther Creek | +1,710 | Graham County (Unincorporated Areas).
| Approximately 0.5 mile upstream of the confluence of Town Branch Tributary 1 | +1,729
Town Branch Tributary 1 | At the confluence with Town Branch | +1,710 | Graham County (Unincorporated Areas).
| Approximately 0.5 mile upstream of the confluence with Town Branch | +1,712
Tulula Creek | At the confluence with Cheoah River and Sweetwater Creek | +1,982 | Graham County (Unincorporated Areas), Town of Robbinsville.
| Approximately 0.8 mile upstream of the confluence of Juts Creek | +2,506
Tuskeegee Creek | At the confluence with Little Tennessee River | +1,710 | Graham County (Unincorporated Areas).
| At the confluence of North Fork Tuskeegee Creek | +1,953
West Buffalo Creek | At the confluence with Buffalo Creek | +1,942 | Graham County (Unincorporated Areas).
| At the confluence of Squally Creek and Little Buffalo Creek | +2,361
Wolf Creek | At the confluence with Panther Creek | +1,710 | Graham County (Unincorporated Areas).
| Approximately 0.5 mile upstream of Little Bear Lane | +1,855
Yellow Creek | At the confluence with Cheoah River | +1,447 | Graham County (Unincorporated Areas).
| Approximately 0.9 mile upstream of Yellow Creek Road (State Road 1242) | +2,338
* National Geodetic Vertical Datum.
+ North American Vertical Datum.
# Depth in feet above ground.
ADDRESSES
Graham County
Maps are available for inspection at Graham County Mapping Department, 12 North Main Street, Robbinsville, North Carolina.
Town of Lake Santeetlah
Maps are available for inspection at Lake Santeetlah Town Hall, 4 Marina Drive, Lake Santeetlah, North Carolina.
Town of Robbinsville
Maps are available for inspection at Robbinsville Town Hall, 4 Court Street, Robbinsville, North Carolina.
Mitchell County, North Carolina and Incorporated Areas
Docket No.: FEMA-B-7755
Bear Creek | At the confluence with North Toe River | +2,459 | Unincorporated Areas of Mitchell County.
| Approximately 0.4 mile upstream of State Road 1197 | +2,689
Beaver Creek | At the confluence with North Toe River | +2,515 | Unincorporated Areas of Mitchell County, Town of Spruce Pine.
| Approximately 1.9 miles upstream of Beaver Creek Road (State Road 1143) | +3,350
Big Crabtree Creek | At the confluence with North Toe River | +2,411 | Unincorporated Areas of Mitchell County.
| Approximately 1.2 miles upstream of Seven Mile Ridge Road (State Road 1167) | +3,129
Big Rock Creek | At the confluence with North Toe River | +2,124 | Unincorporated Areas of Mitchell County.
| Approximately 0.6 mile upstream of NC Highway 226 | +2,841
Brushy Creek | At the confluence with Big Crabtree Creek | +2,508 | Unincorporated Areas of Mitchell County.
| Approximately 500 feet upstream of Road B | +2,692
Cane Creek | At the confluence with North Toe River | +2,243 | Unincorporated Areas of Mitchell County, Town of Bakersville.
| Approximately 800 feet upstream of State Road 1206 | +2,894
Cane Creek Tributary 6 | At the confluence with Cane Creek | +2,449 | Town of Bakersville.
| Approximately 620 feet upstream of Ridgeview Drive | +2,477
Cane Creek Tributary 7 | At the confluence with Cane Creek | +2,450 | Unincorporated Areas of Mitchell County, Town of Bakersville.
| Approximately 0.6 mile upstream of the confluence with Tributary of Cane Creek Tributary 7 | +2,575
East Fork Grassy Creek | At the confluence with Grassy Creek | +2,617 | Unincorporated Areas of Mitchell County.
| Approximately 300 feet upstream of NC Highway 226 | +2,677
English Creek | At the confluence with North Toe River | +2,510 | Town of Spruce Pine.
| Approximately 0.3 mile upstream of Greenwood Road | +2,526
Grassy Creek | At the confluence with North Toe River | +2,525 | Unincorporated Areas of Mitchell County, Town of Spruce Pine.
| Approximately 300 feet upstream of Dula Road (State Road 1106) | +2,656
Greene Cove Creek | At the confluence with Cane Creek | +2,600 | Unincorporated Areas of Mitchell County.
| Approximately 800 feet upstream of Green Cove Road (State Road 1205) | +2,671
Greene Creek | At the confluence with Little Rock Creek | +3,148 | Unincorporated Areas of Mitchell County.
| Approximately 0.5 mile upstream of Green Cove Road (State Road 1223) | +3,514
Little Rock Creek | At the confluence with Big Rock Creek | +2,323 | Unincorporated Areas of Mitchell County.
| Approximately 2.0 miles upstream of Greene Creek Road (State Road 1223) | +3,731
Little Rose Creek | At the confluence with North Toe River | +2,560 | Unincorporated Areas of Mitchell County.
| Approximately 0.4 mile upstream of the confluence with North Toe River | +2,592
Nolichucky River | Approximately 5.4 miles upstream of North Carolina/Tennessee State boundary | +1,981 | Unincorporated Areas of Mitchell County.
| At the confluence of North Toe River | +2,044
North Toe River | At the confluence with Nolichucky River | +2,044 | Unincorporated Areas of Mitchell County, Town of Spruce Pine.
| Approximately 3.5 miles upstream of U.S. Highway 19 | +2,681
North Toe River Tributary 67 | At the confluence with North Toe River | +2,453 | Unincorporated Areas of Mitchell County.
| Approximately 0.9 mile upstream of the confluence with North Toe River | +2,577
Tributary of Cane Creek Tributary 7 | At the confluence with Cane Creek Tributary 7 | +2,529 | Unincorporated Areas of Mitchell County, Town of Bakersville.
| Approximately 0.4 mile upstream of the confluence with Cane Creek Tributary 7 | +2,569
White Oak Creek | At the confluence with Cane Creek | +2,461 | Unincorporated Areas of Mitchell County, Town of Bakersville.
| Approximately 0.3 mile upstream of Crimson Laurel Way | +2,489
White Oak Creek Tributary 1 | At the confluence with White Oak Creek | +2,472 | Unincorporated Areas of Mitchell County, Town of Bakersville.
| Approximately 770 feet upstream of Crimson Laurel Way | +2,502
Young Cove Creek | At the confluence with Cane Creek | +2,550 | Unincorporated Areas of Mitchell County.
| Approximately 940 feet upstream of the confluence with Cane Creek | +2,563
* National Geodetic Vertical Datum.
+ North American Vertical Datum.
# Depth in feet above ground.
ADDRESSES
Town of Bakersville
Maps are available for inspection at Bakersville Town Hall, 26 South Mitchell Street, Bakersville, North Carolina.
Town of Spruce Pine
Maps are available for inspection at Spruce Pine Town Hall, 138 Highlands Avenue, Spruce Pine, North Carolina.
Unincorporated Areas of Mitchell County
Maps are available for inspection at Mitchell County Administration Building, 26 Crimson Laurel Circle, Suite 5, Bakersville, North Carolina.
Northampton County, North Carolina and Incorporated Areas
Docket Nos.: FEMA-D-7668 and FEMA-B-7759
Ahoskie Creek | Approximately 500 feet downstream of the Northampton/Hertford County boundary | +58 | Unincorporated Areas of Northampton County.
| Approximately 50 feet downstream of Tyler Road (State Road 1100) | +66
Ahoskie Creek Tributary 8 | At the confluence with Ahoskie Creek | +60 | Unincorporated Areas of Northampton County.
| Approximately 0.5 mile upstream of the confluence with Ahoskie Creek | +62
Bear Swamp | At the confluence with Urahaw Swamp | +51 | Unincorporated Areas of Northampton County.
| Approximately 0.9 mile upstream of NC 305 Highway | +78
Beaverpond Creek | At the confluence of Beaverpond Creek Tributary 1 | +98 | Unincorporated Areas of Northampton County.
| Approximately 0.8 mile upstream of the North Carolina/Virginia State boundary | +216
Beaverpond Creek Tributary 1 | At the confluence with Beaverpond Creek | +98 | Unincorporated Areas of Northampton County.
| Approximately 0.5 mile upstream of the confluence with Beaverpond Creek | +111
Beaverpond Creek Tributary 2 | At the confluence with Beaverpond Creek | +127 | Unincorporated Areas of Northampton County.
| Approximately 0.6 mile upstream of Old Emporia Road (State Road 1209) | +150
Black Duck Creek | At the confluence with Lees Creek | +66 | Unincorporated Areas of Northampton County, Town of Gaston.
| Approximately 0.7 mile upstream of Cal Floyd Road (State Route 1210) | +193
Bridges Creek Tributary 2 | At the confluence with Bridges Creek | +42 | Unincorporated Areas of Northampton County.
| Approximately 250 feet downstream of Chapel Hill Church Road | +60
Chockoyotte Creek | At the confluence with Roanoke River | +57 | Unincorporated Areas of Northampton County.
| At the confluence with Roanoke River (the Northampton/Halifax County boundary) | +59
Corduroy Swamp | At the confluence with Kirby Creek | +55 | Unincorporated Areas of Northampton County.
| Approximately 2.1 miles upstream of Mount Carmel Road (State Road 1333) | +128
Corduroy Swamp Tributary 1 | At the confluence with Corduroy Swamp | +66 | Unincorporated Areas of Northampton County.
| Approximately 0.6 mile upstream of the confluence with Corduroy Swamp | +70
Corduroy Swamp Tributary 2 | At the confluence with Corduroy Swamp | +71 | Unincorporated Areas of Northampton County.
| Approximately 0.6 mile upstream of the confluence with Corduroy Swamp | +78
Corduroy Swamp Tributary 3 | At the confluence with Corduroy Swamp | +78 | Unincorporated Areas of Northampton County.
| Approximately 0.9 mile upstream of the confluence with Corduroy Swamp | +84
Corduroy Swamp Tributary 4 | At the confluence with Corduroy Swamp | +87 | Unincorporated Areas of Northampton County.
| Approximately 0.8 mile upstream of the confluence with Corduroy Swamp | +93
Corduroy Swamp Tributary 5 | At the confluence with Corduroy Swamp | +89 | Unincorporated Areas of Northampton County.
| Approximately 1.2 miles upstream of the confluence with Corduroy Swamp | +98
Corduroy Swamp Tributary 6 | At the confluence with Corduroy Swamp | +104 | Unincorporated Areas of Northampton County.
| Approximately 0.4 mile upstream of the confluence with Corduroy Swamp | +106
Corwells Millpond | At the confluence with Jacks Swamp | +72 | Unincorporated Areas of Northampton County.
| Approximately 1,570 feet upstream of Big Johns Store Road (State Road 1300) | +89
Cutawhiskie Creek | At the downstream side of Fennell Road (State Road 1155) | +52 | Unincorporated Areas of Northampton County.
| Approximately 1.1 miles upstream of Eagletown Road (State Road 1522) | +65
Cutawhiskie Creek Tributary 3 | Approximately 50 feet downstream of the Northampton/Hertford County boundary | +51 | Unincorporated Areas of Northampton County.
| Approximately 0.4 mile upstream of the Northampton/Hertford County boundary | +53
Cutawhiskie Creek Tributary 4 | At the confluence with Cutawhiskie Creek | +57 | Unincorporated Areas of Northampton County.
| Approximately 0.7 mile upstream of the confluence with Cutawhiskie Creek | +62
Cypress Creek | At the confluence with Meherrin River | +45 | Unincorporated Areas of Northampton County.
| Approximately 1.7 miles upstream of Julian Morgan Road | +99
Cypress Creek Tributary 1 | At the confluence with Cypress Creek | +52 | Unincorporated Areas of Northampton County.
| Approximately 1.6 miles upstream of the confluence with Cypress Creek | +63
Cypress Creek Tributary 2 | At the confluence with Cypress Creek | +68 | Unincorporated Areas of Northampton County.
| Approximately 600 feet upstream of NC 186 Highway | +87
Cypress Creek Tributary 3 | At the confluence with Cypress Creek | +70 | Unincorporated Areas of Northampton County.
| Approximately 0.5 mile upstream of the confluence with Cypress Creek | +79
Cypress Creek Tributary 4 | At the confluence with Cypress Creek | +86 | Unincorporated Areas of Northampton County.
| Approximately 1,480 feet upstream of Julian Morgan Road | +97
Devils Branch | At the confluence with Roanoke River | +135 | Unincorporated Areas of Northampton County.
| Approximately 3.1 miles upstream of the confluence with Roanoke River | +196
Fountains Creek | At the confluence with Meherrin River | +46 | Unincorporated Areas of Northampton County.
| Approximately 4.3 miles upstream of the confluence with Meherrin River | +51
Grant Branch | At the confluence with Urahaw Swamp | +49 | Unincorporated Areas of Northampton County, Town of Lasker.
| Approximately 1.4 miles upstream of Collier Road (State Road 1515) | +74
Gumberry Swamp | At the downstream side of Barrows Mill Road (State Route 1126) | +47 | Unincorporated Areas of Northampton County.
| Approximately 300 feet upstream of railroad | +124
Hunting Branch | At the confluence with Corduroy Swamp | +58 | Unincorporated Areas of Northampton County.
| Approximately 20 feet downstream of Frank Harris Road (State Road 1343) | +70
Ivy Creek | At the confluence with Cypress Creek | +84 | Unincorporated Areas of Northampton County.
| Approximately 1.2 miles upstream of the confluence with Cypress Creek | +89
Jacks Swamp | At the North Carolina/Virginia State boundary | +68 | Unincorporated Areas of Northampton County.
| Approximately 710 feet upstream of Interstate 95 (Southbound) | +135
Jacks Swamp Tributary 1 | At the confluence with Jacks Swamp | +69 | Unincorporated Areas of Northampton County.
| Approximately 0.7 mile upstream of the confluence with Jacks Swamp | +84
Jacks Swamp Tributary 2 | At the confluence with Jacks Swamp | +94 | Unincorporated Areas of Northampton County.
| Approximately 2.0 miles upstream of the confluence with Jacks Swamp | +121
Jacks Swamp Tributary 3 | At the confluence with Jacks Swamp | +100 | Unincorporated Areas of Northampton County.
| Approximately 0.9 mile upstream of the confluence with Jacks Swamp | +122
Jacks Swamp Tributary 4 | At the confluence with Jacks Swamp | +123 | Unincorporated Areas of Northampton County.
| Approximately 870 feet upstream of Interstate 95 (Southbound) | +136
Kirby Creek | At the confluence with Meherrin River | +17 | Unincorporated Areas of Northampton County.
| At the confluence of Corduroy Swamp and Rogers Swamp | +55
Kirby Creek Tributary 1 | At the confluence with Kirby Creek | +19 | Unincorporated Areas of Northampton County, Town of Severn.
| Approximately 0.9 mile upstream of NC Highway 35 | +60
Kirby Creek Tributary 1A | At the confluence with Kirby Creek Tributary 1 | +43 | Unincorporated Areas of Northampton County.
| Approximately 0.6 mile upstream of the confluence with Kirby Creek Tributary 1 | +51
Kirby Creek Tributary 2 | At the confluence with Kirby Creek | +44 | Unincorporated Areas of Northampton County, Town of Conway.
| Approximately 1,280 feet upstream of Phillips Hill Road (State Road 1365) | +72
Kirby Creek Tributary 3 | At the confluence with Kirby Creek | +50 | Unincorporated Areas of Northampton County.
| Approximately 80 feet downstream of Barnes Loop Road (State Road 1342) | +57
Kirby Creek Tributary 4 | At the confluence with Kirby Creek | +51 | Unincorporated Areas of Northampton County.
| Approximately 0.5 mile upstream of Barnes Loop Road (State Road 1342) | +70
Lees Creek | At the confluence with Roanoke River | +66 | Unincorporated Areas of Northampton County, Town of Gaston.
| Approximately 450 feet downstream of Graysburg Road | +85
Lees Creek Tributary 1 | At the confluence with Lees Creek | +69 | Unincorporated Areas of Northampton County, Town of Gaston.
| Approximately 250 feet downstream of Graysburg Road | +136
Lilly Pond Creek | Approximately 1.1 miles upstream of the confluence with Gumberry Swamp | +47 | Unincorporated Areas of Northampton County, Town of Jackson.
| Approximately 1,500 feet upstream of Depot Street | +92
Meherrin River | At the confluence of Kirby Creek | +17 | Unincorporated Areas of Northampton County.
| At the confluence of Fountains Creek | +46
Occoneechee Creek | Approximately 4.5 miles upstream of the confluence with Roanoke River | +47 | Unincorporated Areas of Northampton County.
| Approximately 1.1 miles upstream of Jackson By-Pass Road (State Route 1311) | +109
Occoneechee Creek Tributary 1 | At the confluence with Occoneechee Creek | +49 | Unincorporated Areas of Northampton County.
| Approximately 0.9 mile upstream of the confluence with Occoneechee Creek | +51
Occoneechee Creek Tributary 2 | At the confluence with Occoneechee Creek | +81 | Unincorporated Areas of Northampton County.
| Approximately 2.7 miles upstream of the confluence with Occoneechee Creek | +97
Paddys Delight Creek | At the confluence with Potecasi Creek | +50 | Unincorporated Areas of Northampton County.
| Approximately 1.1 miles upstream of the confluence of Paddys Delight Creek Tributary 1 | +77
Paddys Delight Creek Tributary 1 | At the confluence with Paddys Delight Creek | +66 | Unincorporated Areas of Northampton County, Town of Conway.
| Approximately 140 feet downstream of Vann Street | +93
Panther Swamp | At the Northampton/Hertford County boundary | +49 | Unincorporated Areas of Northampton County.
| Approximately 1.1 miles upstream of Gilmer Ricks Road (State Road 1543) | +88
Potecasi Creek | At the Northampton/Hertford County boundary | +36 | Unincorporated Areas of Northampton County.
| At the confluences of Ramsey Creek and Wiccacanee Swamp | +65
Potecasi Creek Tributary 13 | At the confluence with Potecasi Creek | +55 | Unincorporated Areas of Northampton County.
| Approximately 0.7 mile upstream of the confluence with Potecasi Creek | +61
Potecasi Creek Tributary 14 | At the confluence with Potecasi Creek | +57 | Unincorporated Areas of Northampton County.
| Approximately 1,360 feet upstream of Lasker Road (State Road 1503) | +71
Potecasi Creek Tributary 15 | At the confluence with Potecasi Creek | +61 | Unincorporated Areas of Northampton County.
| Approximately 100 feet downstream of Fire Tower Road (State Road 1500) | +69
Potecasi Creek Tributary 15A | At the confluence with Potecasi Creek Tributary 15 | +63 | Unincorporated Areas of Northampton County.
| Approximately 0.5 mile upstream of the confluence with Potecasi Creek Tributary 15 | +73
Potecasi Creek Tributary 16 | At the confluence with Potecasi Creek | +62 | Unincorporated Areas of Northampton County.
| Approximately 0.7 mile upstream of the confluence with Potecasi Creek | +71
Potecasi Creek Tributary 17 | At the confluence with Potecasi Creek | +64 | Unincorporated Areas of Northampton County.
| Approximately 0.8 mile upstream of the confluence with Potecasi Creek | +74
Potecasi Creek Tributary 9 | At the confluence with Potecasi Creek | +44 | Unincorporated Areas of Northampton County.
| Approximately 1.9 miles upstream of Ashley Grove Road (State Road 1536) | +68
Quarter Swamp | At the confluence with Urahaw Swamp | +60 | Unincorporated Areas of Northampton County.
| Approximately 1.7 miles upstream of W.J. Duke Service Road (State Road 1121) | +81
Ramsey Creek | At the confluence with Potecasi Creek | +65 | Unincorporated Areas of Northampton County, Town of Jackson.
| Approximately 580 feet downstream of Buck Howell Road (State Road 1316) | +124
Ramsey Creek Tributary 1 | At the confluence with Ramsey Creek | +69 | Unincorporated Areas of Northampton County.
| Approximately 40 feet downstream of NC Highway 305 | +79
Reedy Creek | At the confluence with Kirby Creek | +34 | Unincorporated Areas of Northampton County.
| Approximately 1,210 feet upstream of U.S. 158 Highway | +55
Roanoke River | At the Northampton/Bertie/Halifax County boundary | +34 | Unincorporated Areas of Northampton County, Town of Gaston.
| At the Northampton/Warren County boundary | +203
Roanoke River Tributary 12 | At the confluence with Roanoke River | +133 | Unincorporated Areas of Northampton County.
| Approximately 0.5 mile upstream of NC-46 | +196
Roanoke River Tributary 12A | At the confluence with Roanoke River Tributary 12 | +150 | Unincorporated Areas of Northampton County.
| Approximately 0.4 mile upstream of Dr. Hall Road (State Route 1218) | +184
Roanoke River Tributary 14 | At the confluence with Roanoke River | +133 | Unincorporated Areas of Northampton County.
| Approximately 50 feet downstream of NC-46 | +185
Roanoke River Tributary 14A | At the confluence with Roanoke River Tributary 14 | +164 | Unincorporated Areas of Northampton County.
| Approximately 0.8 mile upstream of NC-46 | +233
Roanoke River Tributary 7 | Approximately 1,500 feet upstream of the confluence with Roanoke River | +45 | Unincorporated Areas of Northampton County.
| Approximately 1.7 mile upstream of the confluence with Roanoke River | +70
Roanoke River Tributary 8 | At the confluence with Roanoke River | +46 | Unincorporated Areas of Northampton County.
| Approximately 1.2 miles upstream of the confluence with Roanoke River | +69
Rogers Swamp | At the confluence with Corduroy Swamp and Kirby Creek | +55 | Unincorporated Areas of Northampton County.
| Approximately 840 feet upstream of Tower Road (State Road 1341) | +88
Rogers Swamp Tributary 1 | At the confluence with Rogers Swamp | +55 | Unincorporated Areas of Northampton County.
| Approximately 0.9 mile upstream of Britton Road (State Road 1337) | +67
Rogers Swamp Tributary 2 | At the confluence with Rogers Swamp | +61 | Unincorporated Areas of Northampton County.
| Approximately 0.5 mile upstream of the confluence with Rogers Swamp | +66
Rogers Swamp Tributary 3 | At the confluence with Rogers Swamp | +67 | Unincorporated Areas of Northampton County.
| Approximately 0.7 mile upstream of the confluence with Rogers Swamp | +80
Rogers Swamp Tributary 4 | At the confluence with Rogers Swamp | +69 | Unincorporated Areas of Northampton County.
| Approximately 0.6 mile upstream of the confluence with Rogers Swamp | +74
Rogers Swamp Tributary 5 | At the confluence with Rogers Swamp | +77 | Unincorporated Areas of Northampton County.
| Approximately 0.7 mile upstream of the confluence with Rogers Swamp | +89
Sandy Run | At the confluence with Roanoke River | +34 | Unincorporated Areas of Northampton County.
| Approximately 0.6 mile upstream of State Highway 308 | +60
Sandy Run Tributary 1 | At the confluence with Sandy Run | +37 | Unincorporated Areas of Northampton County.
| Approximately 0.7 mile upstream of the confluence with Sandy Run | +60
Sandy Run Tributary 3 | At the confluence with Sandy Run | +37 | Unincorporated Areas of Northampton County.
| Approximately 0.5 mile upstream of the confluence with Sandy Run | +46
Trouble Field Creek | At the confluence with Roanoke River | +55 | Unincorporated Areas of Northampton County.
| Approximately 1.8 miles upstream of the confluence with Roanoke River | +61
Turkey Creek | At the confluence with Kirby Creek | +17 | Unincorporated Areas of Northampton County.
| Approximately 1,060 feet upstream of U.S. 158 Highway | +51
Urahaw Swamp | At the confluence with Potecasi Creek | +43 | Unincorporated Areas of Northampton County, Town of Woodland.
| Approximately 1.3 miles upstream of Bryantown Road (State Road 1108) | +66
Urahaw Swamp Tributary 4 | At the confluence with Urahaw Swamp | +57 | Unincorporated Areas of Northampton County.
| Approximately 1,300 feet upstream of Dick Harmony Road (State Road 1115) | +63
Urahaw Swamp Tributary 5 | At the confluence with Urahaw Swamp | +64 | Unincorporated Areas of Northampton County.
| Approximately 1.0 mile upstream of W.J. Duke Service Road (State Road 1121) | +71
Wiccacanee Swamp | At the confluence with Potecasi Creek | +65 | Unincorporated Areas of Northampton County.
| Approximately 1.2 miles upstream of U.S. Highway 158 | +107
Wiccacanee Swamp Tributary | At the confluence with Wiccacanee Swamp | +69 | Unincorporated Areas of Northampton County.
| Approximately 0.6 mile upstream of the confluence with Wiccacanee Swamp | +75
Wildcat Swamp | At the confluence with Potecasi Creek | +54 | Unincorporated Areas of Northampton County.
| Approximately 160 feet downstream of U.S. Highway 158 | +118
* National Geodetic Vertical Datum.
+ North American Vertical Datum.
# Depth in feet above ground.
ADDRESSES
Town of Conway
Maps are available for inspection at Conway Town Hall, 221 West Main Street, Conway, North Carolina.
Town of Gaston
Maps available for inspection at the Gaston Town Hall, 223 Craig Street, Gaston, North Carolina.
Town of Jackson
Maps are available for inspection at Jackson Town Hall, 100 East Jefferson Street, Jackson, North Carolina.
Town of Lasker
Maps are available for inspection at Lasker Town Hall, 203A West Church Street, Lasker, North Carolina.
Town of Severn
Maps are available for inspection at Severn Town Hall, 314 Main Street, Severn, North Carolina.
Town of Woodland
Maps are available for inspection at Woodland Town Hall, 300 Spruce Street, Woodland, North Carolina.
Unincorporated Areas of Northampton County
Maps are available for inspection at Northampton County Office, 108 West Jefferson Street, Jackson, North Carolina.
Adams County, Pennsylvania, and Incorporated Areas
FEMA Docket No.: B-7755
Bermudian Creek | At approximately 1,600 feet downstream of Oxford Road LR-01004 | +612 | Township of Tyrone.
| At approximately 175 feet upstream of Cranberry Road LR-010011 | +640
Little Marsh Creek | At approximately 735 feet downstream of Berry Patch Lane | +644 | Township of Franklin.
| At approximately 935 feet upstream of Hickory Bridge Road TR-315 | +702
Marsh Creek | At approximately 700 feet upstream of Pumping Station Road | +467 | Township of Cumberland.
| At approximately 1,725 feet downstream of the confluence with Little Marsh Creek | +498
Toms Creek | At approximately 3,200 feet upstream of Jacks Mountain Road | +630 | Township of Hamiltonban.
| At approximately 3,500 feet upstream of Jacks Mountain Road | +635
* National Geodetic Vertical Datum.
+ North American Vertical Datum.
# Depth in feet above ground.
ADDRESSES
Township of Cumberland
Maps are available for inspection at 1370 Fairfield Road, Gettysburg, PA 17325.
Township of Franklin
Maps are available for inspection at 55 Scott School Road, Cashtown, PA 17353.
Township of Hamiltonban
Maps are available for inspection at 23 Carroll's Tract Road, Fairfield, PA 17320.
Township of Tyrone
Maps are available for inspection at 5280 Old Harrisburg Road, York Springs, PA 17372.
Waller County, Texas, and Incorporated Areas
FEMA Docket No.: B-7724
Cane Island Branch | Intersection with U.S. 190 | +137 | City of Katy.
| Approximately 535 feet upstream of Clay Road intersection | +158
Cypress Creek | Intersection with private road contiguous with county line | +170 | Waller County (Unincorporated Areas).
| Confluence with Mound Creek | +185
East Fork Mound Creek | Confluence with Mound Creek | +221 | City of Waller.
| 200 feet upstream of Taylor intersection | +249 | Waller County (Unincorporated Areas).
Mound Creek | Approximately 1,800 feet downstream from confluence with Tributary 7.62 of Mound Creek | +217 | City of Waller.
| Approximately 1,000 feet upstream of confluence with Tributary 7.62 of Mound Creek | +219
Spring Creek | 3,800 feet downstream of intersection with Nichols Rd | +202 | City of Waller.
| 850 feet upstream of 1736 intersection | +291
Tributary 7.62 of Mound Creek | Confluence with Mound Creek | +218 | Waller County (Unincorporated Areas).
| Approximately 4,000 feet upstream of confluence with Mound Creek | +224
* National Geodetic Vertical Datum.
+ North American Vertical Datum.
# Depth in feet above ground.
ADDRESSES
City of Katy
Maps are available for inspection at 910 Avenue C, Katy, TX 77493.
City of Waller
Maps are available for inspection at PO Box 239, Waller, TX 77484.
Waller County (Unincorporated Areas)
Maps are available for inspection at 775 Business 290 East, Hempstead, TX 77445.

Flooding source(s) | Location of referenced elevation | * Elevation in feet (NGVD) + Elevation in feet (NAVD) # Depth in feet above ground Effective Modified | Communities affected
Grant County, Washington, and Incorporated Areas
FEMA Docket No.: B-7755
Crab Creek | Just above BNSF Railroad Bridge 338 | +1277 | Town of Wilson Creek, Unincorporated Areas of Grant County.
| Approximately 1,300 feet upstream of Kappel Road Bridge | +1283
Wilson Creek | At confluence with Crab Creek | +1283 | Town of Wilson Creek, Unincorporated Areas of Grant County.
| At eastern corporate limits of the Town of Wilson Creek | +1301
* National Geodetic Vertical Datum.
+ North American Vertical Datum.
# Depth in feet above ground.
ADDRESSES
Town of Wilson Creek
Maps are available for inspection at 254 Railroad Street, Wilson Creek, WA 98860.
Unincorporated Areas of Grant County
Maps are available for inspection at 124 Enterprise Street SE, Ephrata, WA 98823.

Flooding source(s) | Location of referenced elevation | * Elevation in feet (NGVD) + Elevation in feet (NAVD) # Depth in feet above ground Modified | Communities affected
Eau Claire County, Wisconsin, and Incorporated Areas
FEMA Docket No.: B-7726
Chippewa River | Approximately 1,800 feet upstream of county boundary | +762 | Eau Claire County (Unincorporated Areas).
| Approximately 800 feet downstream of Interstate Highway 94 | +772
Sherman Creek | Approximately 1,500 feet upstream of the confluence with the Chippewa River | +777 | City of Eau Claire, Eau Claire County (Unincorporated Areas).
| Approximately 1,800 feet downstream of U.S. Highway 12 | +888
* National Geodetic Vertical Datum.
+ North American Vertical Datum.
# Depth in feet above ground.
ADDRESSES
City of Eau Claire
Maps are available for inspection at City of Eau Claire, City Hall, 203 South Farwell Street, Eau Claire, WI 54702-5148.
Eau Claire County (Unincorporated Areas)
Maps are available for inspection at Eau Claire County Courthouse, 721 Oxford Avenue, Eau Claire, WI 54703-5481.

(Catalog of Federal Domestic Assistance No. 97.022, “Flood Insurance.”)

Dated: August 26, 2008.
Michael K. Buckley,
Deputy Assistant Administrator for Mitigation, Department of Homeland Security, Federal Emergency Management Agency.

[FR Doc. E8-20824 Filed 9-9-08; 8:45 am]

BILLING CODE 9110-12-P